DEPARTMENT OF ENERGY

Record of Decision To Classify Certain Elements of the SILEX Process as Privately Generated Restricted Data

AGENCY: Office of Nuclear and National Security Information, DOE.

ACTION: Notice.

SUMMARY: This notice announces the Secretary of Energy's decision to classify as Restricted Data certain privately generated information concerning an innovative isotope separation process for enriching uranium. Under 10 CFR 1045.21(c), the Secretary of Energy is required to inform the public whenever the authority to classify privately generated information as Restricted Data is exercised.

SUPPLEMENTARY INFORMATION: An Australian company, Silex Systems, Limited, has been developing the Separation of Isotopes by Laser Excitation (SILEX) process to enrich uranium since 1992. In 1996, USEC, Inc., purchased the rights from Silex Systems, Limited, to evaluate and further develop this process. The privately generated information which the Secretary of Energy has classified as Restricted Data under the Atomic Energy Act of 1954, as amended, pertains to certain elements of the SILEX process.

Issued in Washington, DC on June 19, 2001.
Joseph S. Mahaley,
Acting Director, Office of Security and Emergency Operations.

[FR Doc. 01-15982 Filed 6-25-01; 8:45 am]

BILLING CODE 6450-01-P